DEPARTMENT OF COMMERCE

International Trade Administration

[C-533-882, C-570-078, C-580-898, C-489-834]

Large Diameter Welded Pipe From India, the People's Republic of China, the Republic of Korea, and the Republic of Turkey: Postponement of Preliminary Determinations in the Countervailing Duty Investigations

AGENCY: Enforcement and Compliance, International Trade Administration, Department of Commerce.

DATES: Applicable April 2, 2018.

FOR FURTHER INFORMATION CONTACT: Jerry Huang at (202) 482-4047 (the People's Republic of China (China)), Robert Palmer at (202) 482-9068 (India), George Ayache at (202) 482-2623 (the Republic of Korea (Korea)), and Ajay Menon at (202) 482-1993 (the Republic of Turkey (Turkey)), AD/CVD Operations, Enforcement and Compliance, International Trade Administration, U.S. Department of Commerce, 1401 Constitution Avenue NW, Washington, DC 20230.

SUPPLEMENTARY INFORMATION:

Background

On February 9, 2018, the Department of Commerce (Commerce) initiated countervailing duty (CVD) investigations on large diameter welded pipe from China, India, Korea, and Turkey.¹ Currently, the preliminary determinations are due no later than April 16, 2018.

¹ See Large Diameter Welded Pipe from India, the People's Republic of China, the Republic of Korea, and the Republic of Turkey: Initiation of Countervailing Duty Investigations, 83 FR 7148 (February 20, 2018) (Initiation Notice).

Postponement of Preliminary Determinations

Section 703(b)(1) of the Tariff Act of 1930, as amended (the Act), requires Commerce to issue the preliminary determination in a CVD investigation within 65 days after the date on which Commerce initiated the investigation. However, if the petitioner makes a timely request for a postponement, section 703(c)(1)(A) of the Act permits Commerce to postpone the preliminary determination until no later than 130 days after the date on which Commerce initiated the investigation. Under 19 CFR 351.205(e), a petitioner must submit a request for postponement 25 days or more before the scheduled date of the preliminary determination and must state the reason for the request. Commerce will grant the request unless it finds compelling reasons to deny the request.

On March 20, 2018, the petitioners ² submitted timely requests to postpone the preliminary CVD determinations. The petitioners stated that the purpose of their requests was to provide Commerce with additional time to receive questionnaire responses from the respondents and to allow Commerce and interested parties sufficient time to analyze the respondents' questionnaire responses and request clarification and additional information, as necessary.³ In accordance with 19 CFR 351.205(e), the petitioners stated the reasons for requesting a postponement of the preliminary determinations, and Commerce finds no compelling reason to deny the requests. Therefore, in accordance with section 703(c)(1)(A) of the Act, Commerce is postponing the deadline for the preliminary determinations to no later than 130 days after the date on which the investigations were initiated. Accordingly, Commerce will issue the preliminary determinations no later than June 19, 2018. In accordance with section 705(a)(1) of the Act and 19 CFR 351.210(b)(1), the deadline for the final determinations of these investigations will continue to be 75 days after the date of the preliminary determinations, unless postponed at a later date.

² The petitioners are American Cast Iron Pipe Company, Berg Steel Pipe Corp., Berg Spiral Pipe Corp., Dura-Bond Industries, Stupp Corporation, Skyline Steel, Greens Bayou Pipe Mill, LP, JSW Steel (USA) Inc., and Trinity Products LLC.

³ See the petitioners' letters, “Large Diameter Welded Pipe from India: Petitioners' Request for Postponement of the Preliminary Determination;” “Large Diameter Welded Pipe from the People's Republic of China: Petitioners' Request for Postponement of the Preliminary Determination;” “Large Diameter Welded Pipe from the Republic of Korea: Petitioners' Request for Postponement of the Preliminary Determination;” and “Large Diameter Welded Pipe from the Republic of Turkey: Petitioners' Request for Postponement of the Preliminary Determination,” all dated March 20, 2018.

This notice is issued and published pursuant to section 703(c)(2) of the Act and 19 CFR 351.205(f)(1).

Dated: March 27, 2018.
Gary Taverman,
Deputy Assistant Secretary for Antidumping and Countervailing Duty Operations, performing the non-exclusive functions and duties of the Assistant Secretary for Enforcement and Compliance.

[FR Doc. 2018-06596 Filed 3-30-18; 8:45 am]

BILLING CODE 3510-DS-P